DEPARTMENT OF ENERGY

Environmental Management Site-Specific Advisory Board, Hanford

AGENCY: Department of Energy.

ACTION: Notice of open meeting.

SUMMARY: This notice announces a meeting of the Environmental Management Site-Specific Advisory Board (EM SSAB), Hanford. The Federal Advisory Committee Act (Pub. L. No 92-463, 86 Stat. 770) requires that public notice of these meeting be announced in the Federal Register.

DATES: Thursday, April 4, 2002, 9 a.m.-5 p.m., Friday, April 5, 2002, 8:30 a.m.-4 p.m.

ADDRESSES: Red Lion Hotel/Hanford House, 802 George Washington Way, Richland, WA (509-946-7611).

FOR FURTHER INFORMATION CONTACT: Gail McClure, Public Involvement Program Manager, Department of Energy Richland Operations Office, P.O. Box 550 (A7-75), Richland, WA 99352; Phone: (509) 373-5647; Fax: (509) 376-1563.

SUPPLEMENTARY INFORMATION: Purpose of the Board: The purpose of the Board is to make recommendations to DOE and its regulators in the areas of environmental restoration, waste management, and related activities.

Tentative Agenda

Thursday, April 4, 2002

• Introduction of Draft Advice on the Tri-Party Agreement Draft Change Package for the Central Plateau Project

• Introduction of Draft Advice on the Hanford Institutional Controls Plan

• Discussion of Top-to-Bottom Review and Introduction of Draft Advice

• Discussion on FY03 and FY04 Budgets

• Overview of Hanford Exposure Scenario (aka Ad Hoc Task Force) Workshop and Introduction of Draft Advice on the Risk Framework for the Central Plateau

Friday, April 5, 2002

Adoption of the following pieces of draft advice:

• Tri-Party Agreement Draft Change Package for the Central Plateau Project

• Institutional Controls Plan

• Risk Framework for the Central Plateau Committee Updates

• Hanford Solid Waste Draft Environmental Impact Statement (EIS)

Public Participation: The meeting is open to the public. Written statements may be filed with the Board either before or after the meeting. Individuals who wish to make oral statements pertaining to agenda items should contact Gail McClure's office at the address or telephone number listed above. Requests must be received five days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW, Washington, DC 20585 between 9 a.m. and 4 p.m., Monday-Friday, except Federal holidays. Minutes will also be available by writing to Gail McClure, Department of Energy Richland Operation Office, P.O. Box 550, Richland, WA 99352, or by calling her at (509) 373-5647.

Issued at Washington, DC, on February 27, 2002.
Rachel M. Samuel,
Deputy Advisory Committee Management Officer.

[FR Doc. 02-5064 Filed 3-1-02; 8:45 am]

BILLING CODE 6450-01-P